DEPARTMENT OF ENERGY

Federal Energy Regulatory Commission

[Project No. 13318-003]

Swan Lake North Hydro LLC; Notice of Application Ready for Environmental Analysis and Soliciting Comments, Recommendations, Terms and Conditions, and Prescriptions

Take notice that the following hydroelectric application has been filed with the Commission and is available for public inspection.

a. Type of Application: Original License (Major Project).

b. Project No.: 13318-003.

c. Date filed: October 28, 2015.

d. Applicant: Swan Lake North Hydro LLC.

e. Name of Project: Swan Lake North Pumped Storage Hydroelectric Project.

f. Location: The project would be located about 11 miles northeast of Klamath Falls, Klamath County, Oregon. The project would occupy about 730 acres of federal lands administered by the Bureau of Land Management and the Bureau of Reclamation, state lands, and private lands.

g. Filed Pursuant to: Federal Power Act 16 U.S.C. 791(a)-825(r).

h. Applicant Contact: Erik Steimle, Rye Development LLC, 745 Atlantic Avenue, 8th floor, Boston, MA 02111. Telephone: (503) 998-0230; Email: erik@ryedevelopment.com.

i. FERC Contact: Dianne Rodman at (202) 502-6077; or email at Dianne.Rodman@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-13318-003.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis.

l. The proposed project would consist of the following new facilities: (1) A 7,972-foot-long, 58-foot-high earthen embankment forming an asphalt concrete and geomembrane-lined upper reservoir, with a surface area of 64.21 acres and a storage capacity of 2,568 acre-feet at a maximum surface elevation of 6,128 feet above mean sea level (msl); (2) a 8,003-foot-long, 65-foot-high earthen embankment forming a geomembrane-lined lower reservoir, with a surface area of 60.14 acres and a storage capacity of 2,581 acre-feet at a maximum surface elevation of 4,457 feet msl; (3) a 500-foot-long, rip-rap lined trapezoidal spillway built into the crest of each embankment at an elevation of approximately 6,135 feet msl and 4,464 feet msl for the upper and lower reservoirs, respectively; (4) a 0.5-percent-slope perforated polyvinyl chloride tube of varying diameter and accompanying optical fiber drainage system designed to detect, collect, and monitor water leakage from the reservoirs; (5) a 25-inch-diameter bottom outlet with manual valve for gravitational dewatering of the lower reservoir; (6) an upper intake consisting of a bell mouth, 38.6-foot-wide by 29.8-foot-long inclined screen, head gate, and 13.8-foot-diameter foundational steel pipe; (7) a 13.8-foot-diameter, 9,655-foot-long steel high-pressure penstock from the upper reservoir to the powerhouse that would be predominantly aboveground with a 14-foot-long buried segment; (8) three 9.8-foot-diameter, 1,430-foot-long steel low-pressure penstocks from the lower reservoir to the powerhouse that would be predominantly aboveground with a 78-foot-long buried segment; (9) a partially buried powerhouse with three 131.1-MW reversible pump-turbine units for a total installed capacity of 393.3 MW; (10) a fenced substation next to the powerhouse; (11) a 32.8-mile-long, 230-kilovolt (kV) aboveground transmission line interconnecting to an existing non-project substation; (12) approximately 10.7 miles of improved project access road; (13) approximately 3.4 miles of new permanent project access road; (14) approximately 8.3 miles of temporary project access road; and (15) appurtenant facilities. The project would be a closed-loop system using groundwater for initial fill, and would not use any existing surface body of water. Initial fill water and long-term refill due to evaporative losses would be supplied by the local groundwater agricultural pumping system and delivered to the lower reservoir via an existing underground agricultural irrigation network. The average annual generation is expected to be 1,187 gigawatt-hours.

m. A copy of the application is available for review at the Commission in the Public Reference Room or may be viewed on the Commission's website at http://www.ferc.gov. using the eLibrary link. Enter the docket number excluding the last three digits in the docket number field to access the document. For assistance, contact FERC Online Support. A copy is also available for inspection and reproduction at the address in item h above.

All filings must (1) bear in all capital letters the title COMMENTS, REPLY COMMENTS, RECOMMENDATIONS, TERMS AND CONDITIONS, or PRESCRIPTIONS; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

o. A license applicant must file no later than 60 days following the date of issuance of this notice: (1) A copy of the water quality certification; (2) a copy of the request for certification, including proof of the date on which the certifying agency received the request; or (3) evidence of waiver of water quality certification.

p. Procedural schedule: The application will be processed according to the following schedule. Revisions to the schedule will be made as appropriate.

Milestone | Target date
Deadline for Filing Comments, Recommendations, and Agency Terms and Conditions/Prescriptions | December 2018.
Draft Environmental Impact Statement (EIS) Issued | August 2018.
Comments on Draft EIS Due | October 2018.
Final EIS Issued | December 2018.

Dated: December 20, 2017.
Kimberly D. Bose,
Secretary.

[FR Doc. 2017-27916 Filed 12-26-17; 8:45 am]

BILLING CODE 6717-01-P